DEPARTMENT OF HEALTH AND HUMAN SERVICES

National Institutes of Health

National Cancer Institute; Amended Notice of Meeting

Notice is hereby given of a change in the meeting of the National Cancer Institute Special Emphasis Panel, October 24, 2013, 8:00 a.m. to October 24, 2013, 5:00 p.m., National Cancer Institute Shady Grove, Shady Grove, 9609 Medical Center Drive, Rm. 7W034, Rockville, MD, 20850 which was published in the Federal Register on September 11, 2013, 78 FR 55750.

The meeting notice is amended to change the date from October 24, 2013 to December 5, 2013. The meeting is closed to the public.

Dated: September 20, 2013.
Melanie J. Gray,
Program Analyst, Office of Federal Advisory Committee Policy.

[FR Doc. 2013-23407 Filed 9-25-13; 8:45 am]

BILLING CODE 4140-01-P